COMMISSION ON CIVIL RIGHTS

Notice of Public Meeting of the Georgia Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Georgia Advisory Committee (Committee) will continue a series of web-based meetings to hear testimony regarding Civil Asset Forfeiture and its impact on communities of color in Georgia.

DATES:

Public Access Information

• Panel III: Monday, August 2, 2021, at 2:00 p.m. Eastern Time

○ Register online (audio/visual): https://bit.ly/3xlGTED

○ Telephone (audio only): Dial: 800-360-9505; Access code: 199 979 8534

• Panel IV: Wednesday August 4, 2021, at 2:00 p.m. Eastern Time

○ Register online (audio/visual): https://bit.ly/3iOL4Vk

○ Telephone (audio only): Dial: 800-360-9505; Access code: 199 014 4101

FOR FURTHER INFORMATION CONTACT: Melissa Wojnaroski, DFO, at mwojnaroski@usccr.gov or 202-618-4158.

SUPPLEMENTARY INFORMATION: Members of the public can listen to the discussion. This meeting is available to the public through the above listed toll-free number or online registration link. An open comment period will be provided to allow members of the public to make a statement as time allows. Callers can expect to incur regular charges for calls they initiate over wireless lines, according to their wireless plan. The Commission will not refund any incurred charges. Callers will incur no charge for calls they initiate over land-line connections to the toll-free telephone number. Closed captions will be provided. Individuals who are deaf, deafblind, or hard of hearing may also follow the proceedings by first calling the Federal Relay Service at 1-800-877-8339 and providing the Service with the conference call number and conference ID number. Please contact the Commission 10 days prior to the meeting to request other accommodations.

Members of the public are entitled to submit written comments; the comments must be received in the regional office within 30 days following the meeting. Written comments may be emailed to Melissa Wojnaroski at mwojnaroski@usccr.gov in the Regional Program Unit Office/Advisory Committee Management Unit. Persons who desire additional information may contact the Regional Programs Unit Office at 202-618-4158.

Records generated from this meeting may be inspected and reproduced at the Regional Programs Unit Office, as they become available, both before and after the meeting. Records of the meeting will be available via https://www.facadatabase.gov/FACA/FACAPublicViewCommitteeDetails?id=a10t0000001gzkxAAAunder the Commission on Civil Rights, Georgia Advisory Committee link. Persons interested in the work of this Committee are also directed to the Commission's website, http://www.usccr.gov, or may contact the Regional Programs Unit office at the above email or phone number.

Agenda

Welcome and Roll Call

Discussion: Civil Rights in Georgia (Civil Asset Forfeiture)

Public Comment

Adjournment

Dated: June 22, 2021.
David Mussatt,
Supervisory Chief, Regional Programs Unit.

[FR Doc. 2021-13572 Filed 6-24-21; 8:45 am]

BILLING CODE P